DEPARTMENT OF TRANSPORTATION

Federal Aviation Administration

Notice of Intent To Rule on Request To Release Airport Property at Shawnee Regional Airport, Shawnee, OK

AGENCY: Federal Aviation Administration (FAA), DOT.

ACTION: Notice of request to release airport property.

SUMMARY: FAA proposes to rule and invites public comment on the release of land at Shawnee Regional Airport under the provisions of Title 49 of US Code, Section 47153.

DATES: Comments must be received on or before January 2, 2006.

ADDRESSES: Comments on this application may be mailed or delivered to the FAA at the following address: Mr. Edward N. Agnew, Manager, Airports Development Office, Federal Aviation Administration, Southwest Region, Airports Division, Arkansas/Oklahoma Airports Development Office, ASW-630, Fort Worth, Texas 76193-0630.

In addition, one copy of any comments submitted to the FAA must be mailed or delivered to Mr. James C. Collard, City Manager, at the following address: PO Box 1448, Shawnee, OK 74802-1448.

FOR FURTHER INFORMATION CONTACT: Donald C. Harris, Senior Program Manager, Federal Aviation Administration, Arkansas/Oklahoma Airports Development Office, ASW-631, 2601 Meacham Blvd., Fort Worth, Texas 76193-0630.

The request to release property may be reviewed in person at this same location.

SUPPLEMENTARY INFORMATION: The FAA invites public comment on the request to release property at the Shawnee Regional Airport under the provisions of the Act.

On November 23, 2005, the FAA determined that the request submitted by the City of Shawnee to release property at Shawnee Regional Airport met the procedural requirements of Federal Aviation Regulation Part 155. The FAA may approve the request, in whole or in part, no later than January 5, 2006.

The following is a brief overview of the request: The Shawnee Airport Authority requests the release of 8.2 acres of airport property. The sale is estimated to provide $156,800.00 to allow construction of an early childhood development center for the City of Shawnee. Any person may inspect the request in person at the FAA office listed above under FOR FURTHER INFORMATION CONTACT.

In addition, any person may, upon request, inspect the application, notice and other documents germane to the application in person at the Shawnee Regional Airport.

Issued in Fort Worth, Texas, on November 23, 2005.
Kelvin L. Solco,
Manager, Airports Division.

[FR Doc. 05-23526 Filed 11-30-05; 8:45 am]

BILLING CODE 4910-13-M